DEPARTMENT OF HEALTH AND HUMAN SERVICES

Centers for Disease Control and Prevention

[60Day-09-0214]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-5960 or send comments to CDC Assistant Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology. Written comments should be received within 60 days of this notice.

Proposed Project

National Health Interview Survey (NHIS), (OMB No. 0920-0214)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States.

The annual National Health Interview Survey is a major source of general statistics on the health of the U.S. population and has been in the field continuously since 1957. Clearance is sought for three years, to collect data for 2010, 2011, and 2012. This voluntary household-based survey collects demographic and health-related information on a nationally representative sample of persons and households throughout the country. Information is collected using computer assisted personal interviews (CAPI). A core set of data is collected each year while sponsored supplements vary from year to year. For 2010, supplement information will be collected on cancer, occupational injury, epilepsy, and child mental health. The child mental health component includes a follow-up study to assess the validity of a short series of questions for measuring mental distress in children.

In accordance with the 1995 initiative to increase the integration of surveys within the Department of Health and Human Services, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives, “Healthy People 2010.”

There is no cost to the respondents other than their time.

Annualized Burden Table
Questionnaire (respondent) | Number of respondents | Number of responses per respondent | Average burden per response in hours | Total burden in hours
Screener Questionnaire (adult family member) | 10,000 | 1 | 5/60 | 833
Family Core (adult family member) | 33,000 | 1 | 23/60 | 12,650
Adult Core (sample adult) | 25,000 | 1 | 17/60 | 7,083
Child Core (adult family member) | 10,000 | 1 | 9/60 | 1,500
Adult Cancer (sample adult) | 25,000 | 1 | 19/60 | 7,917
Child Cancer (adult family member) | 10,000 | 1 | 1/60 | 167
Adult Occupational Injury (sample adult) | 25,000 | 1 | 2/60 | 833
Adult Epilepsy (sample adult) | 25,000 | 1 | 1/60 | 417
Child Mental Health (adult family member) | 10,000 | 1 | 2/60 | 333
Child Mental Health Follow-Up (parent) | 430 | 1 | 40/60 | 287
Child Mental Health Follow-Up (child) | 319 | 1 | 28/60 | 149
Re-interview Survey) |  | 1 | 5/60 | 250
Total Burden Hours |  |  |  | 32,419

Maryam I. Daneshvar,
Acting Reports Clearance Officer, Office of the Chief Science Officer, Centers for Disease Control and Prevention.

[FR Doc. E9-12393 Filed 5-27-09; 8:45 am]

BILLING CODE 4163-18-P